DEPARTMENT OF VETERANS AFFAIRS

Joint Biomedical Laboratory Research and Development and Clinical Science Research and Development Services Scientific Merit Review Board Notice of Meetings

The Department of Veterans Affairs (VA) gives notice under the Federal Advisory Committee Act that the subcommittees of the Joint Biomedical Laboratory Research and Development and Clinical Science Research and Development Services Scientific Merit Review Board (JBL/CS SMRB) will meet from 8 a.m. to 5 p.m. on the dates indicated below (unless otherwise listed):

Subcommittee | Date | Location
Surgery | November 15, 2017 | 20 F Conference Center.
Pulmonary Medicine | November 15, 2017 | 20 F Conference Center.
Infectious Diseases-B | November 16, 2017 | 20 F Conference Center.
Oncology-A/D | November 16, 2017 | 20 F Conference Center.
Hematology | November 17, 2017 | 20 F Conference Center.
Oncology-C | November 17, 2017 | 20 F Conference Center.
Cellular & Molecular Medicine | November 20, 2017 | 20 F Conference Center.
Oncology-B | November 20, 2017 | 20 F Conference Center.
Infectious Diseases-A | November 21, 2017 | 20 F Conference Center.
Epidemiology | November 28, 2017 | * VA Central Office.
Mental Health & Behavioral Sciences-A | November 28, 2017 | 20 F Conference Center.
Nephrology | November 28, 2017 | 20 F Conference Center.
Oncology-E | November 28, 2017 | 20 F Conference Center.
Immunology & Dermatology-A | November 29, 2017 | 20 F Conference Center.
Mental Health & Behavioral Sciences-B | November 29, 2017 | 20 F Conference Center.
Cardiovascular Studies-A | November 30, 2017 | 20 F Conference Center.
Endocrinology-A | November 30, 2017 | 20 F Conference Center.
Neurobiology-C | November 30, 2017 | 20 F Conference Center.
Neurobiology-A | December 1, 2017 | 20 F Conference Center.
Neurobiology-E | December 1, 2017 | 20 F Conference Center.
Endocrinology-B | December 4, 2017 | 20 F Conference Center,
Neurobiology-B | December 5, 2017 | 20 F Conference Center.
Special Panel for Sheep Review | December 5, 2017 | * VA Central Office.
Neurobiology-F | December 6, 2017 | * VA Central Office.
Cardiovascular Studies-B | December 7, 2017 | 20 F Conference Center.
Gastroenterology | December 7, 2017 | 20 F Conference Center.
Neurobiology-D | December 8, 2017 | 20 F Conference Center.
Gulf War Research | December 8, 2017 | * VA Central Office.
Special Emphasis Panel on Million Veteran Prog Proj | January 11-12, 2018 | 20 F Conference Center.
Eligibility | January 19, 2018 | 20 F Conference Center.
JBL/CS SMRB | January 25, 2018 | * VA Central Office.
The addresses of the meeting sites are:
20 F Conference Center, 20 F Street NW., Washington, DC.
VA Central Office, 1100 First Street NE., Suite 600, Washington, DC.
* Teleconference.

The purpose of the subcommittees is to provide advice on the scientific quality, budget, safety and mission relevance of investigator-initiated research proposals submitted for VA merit review evaluation. Proposals submitted for review include various medical specialties within the general areas of biomedical, behavioral and clinical science research.

These subcommittee meetings will be closed to the public for the review, discussion, and evaluation of initial and renewal research proposals, which involve reference to staff and consultant critiques of research proposals. Discussions will deal with scientific merit of each proposal and qualifications of personnel conducting the studies, the disclosure of which would constitute a clearly unwarranted invasion of personal privacy. Additionally, premature disclosure of research information could significantly obstruct implementation of proposed agency action regarding the research proposals. As provided by subsection 10(d) of Public Law 92-463, as amended by Public Law 94-409, closing the subcommittee meetings is in accordance with Title 5 U.S.C. 552b(c)(6) and (9)(B).

Those who would like to obtain a copy of the minutes from the closed subcommittee meetings and rosters of the subcommittee members should contact Holly Krull, Ph.D., Manager, Merit Review Program (10P9B), Department of Veterans Affairs, 810 Vermont Avenue NW., Washington, DC 20420, at (202) 632-8522 or email at holly.krull@va.gov.

Dated: September 29, 2017.
LaTonya L. Small,
Federal Advisory Committee Management Officer.

[FR Doc. 2017-21376 Filed 10-4-17; 8:45 am]

BILLING CODE P